FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 21, 2021.

A. Federal Reserve Bank of Chicago (Colette A. Fried, Assistant Vice President) 230 South LaSalle Street, Chicago, Illinois 60690-1414:

1. The MCH EMH 2020 Trust fbo Elizabeth M. Hewitt, MCH LNH 2020 Trust fbo Lauren N. Hewitt, and the MCH RAM 2020 Trust fbo Rachel A. Maletta, Mark C. Hewitt, as trustee of all trusts, all of Mason City, Iowa; to acquire voting shares of Arneson Bancshares, Inc., and thereby indirectly acquire voting shares of Clear Lake Bank & Trust, both of Clear Lake, Iowa.

In addition, the Mark C. Hewitt 2014 Trust and the Amy J. Hewitt By-Pass Trust fbo Mark C. Hewitt, Mark C. Hewitt, as trustee of both trusts, all of Mason City, Iowa, and the Ray V. Hewitt 2008 Trust, Ray V. Hewitt, as trustee, both of Clear Lake, Iowa, together with Carrie Hewitt-Nichols, Iowa City, Iowa, to form the Hewitt Family Control Group, a group acting in concert, to retain voting shares of Arneson Bancshares, Inc., and thereby indirectly acquire voting shares of Clear Lake Bank & Trust.

Board of Governors of the Federal Reserve System, December 30, 2020.
Michele Taylor Fennell,
Deputy Associate Secretary of the Board.

[FR Doc. 2020-29206 Filed 1-5-21; 8:45 am]

BILLING CODE 6210-01-P